FEDERAL COMMUNICATIONS COMMISSION

47 CFR Part 73

[DA 00-584; MM Docket No. 98-198; RM-9304, RM-9492, RM-9548, RM-9547]

Radio Broadcasting Services; Texas and Oklahoma

AGENCY: Federal Communications Commission.

ACTION: Final rule.

SUMMARY: In response to counterproposals in this proceeding filed by First Broadcasting Management, LLC, KCYT-FM License Corporation, Gain-Air, Inc., WBAP/KSCS Operating, Ltd., Blue Bonnet Radio, Inc., Heftel Broadcasting Corporation, Metro Broadcasters-Texas, Inc., Jerry Snyder and Associates, Inc., and Hunt Broadcasting, this document granted multiple channel substitutions and changes of community of license in Cross Plains, Allen, Benbrook, Brownwood, Burkburnnett, Campbell, Clifton, Coleman, Commerce, Detroit, Graham, Granbury, Haskell, Kerens, Mason, Jacksboro, McKinney, Muenster, San Saba, Snyder, Terrell, Vernon, Waco, and Wichita Falls, TX; Alva, Anadarko, Antlers, Ardmore, Atoka, Comanche, Dickson, Duncan, Durant, Eldorado, Hugo, and Lone Grove, OK. See Supplementary Information. With this action, the proceeding is terminated.

DATES: Effective May 4, 2000.

FOR FURTHER INFORMATION CONTACT: Robert Hayne, Mass Media Bureau (202) 418-2177.

SUPPLEMENTARY INFORMATION: This is a synopsis of the Report and Order in MM Docket No. 98-198 adopted March 8, 2000, and released March 21, 2000. The full text of this decision is available for inspection and copying during normal business hours in the FCC Reference Center at Portals ll, CY-A257, 445 12th Street, SW, Washington, DC. The complete text of this decision may also be purchased from the Commission's copy contractor, International Transcription Service, Inc., (202) 857-3805, 1231 20th Street, NW, Washington, DC 20036. Specifically, this document substitutes Channel 293A for Channel 294C at Muenster, Texas, and modifies the license of Station KXGM-FM to specify operation on Channel 294C. In order to accommodate Channel 294C at Muenster, it substitutes Channel 294C for Channel 296C1 at Granbury, Texas, reallots Channel 296C1 to Benbrook, Texas, and modifies the license of Station KDXT to specify operation on Channel 296C1 at Benbrook. It also substitutes Channel 294C2 for Channel 282C2 at Detroit, Texas, and substitutes Channel 284A for Channel 272A at Antlers, Oklahoma. It also substitutes Channel 295A for Channel 296A at McKinney, Texas, reallots Channel 296A to Campbell, Texas, and modifies the license of Station KZDF to specify operation on Channel 296A at Campbell. It substitutes Channel 294A for Channel 296C3 at Lone Grove, Oklahoma, and modifies the license of Station KYNZ to specify operation on Channel 263C3. To accommodate Channel 263C3 at Lone Grove, it substitutes Channel 296C3 for Channel 292A at Durant, Oklahoma, and modifies the license of Station KLBC to specify operation on Channel 292A. In order to accommodate Channel 296A at Campbell, it substitutes Channel 296A for Channel 295A at Terrell, Texas, reallots Channel 295A to Kerens, Texas, and modifies the license of Station KZDL to specify operation on Channel 295A at Kerens. The Channel 296C1 allotment at Benbrook requires the substitution of Channel 296C3 for Channel 234C3 at Graham, Texas, and modification of the license of Station KWKQ to specify operation on Channel 234C3; the substitution of Channel 296C3 for Channel 272C3 at Coleman, Texas, and the modification of the license of Station KSTA-FM to specify operation on Channel 272C3; and the substitution of Channel 296A for Channel 277A at Waco, Texas, and the modification of the license of Station KWBU to specify operation on Channel 277A. In order to allot Channel 277A at Waco, it substitutes Channel 277C3 for Channel 281C3 at Clifton, Texas, and modifies the license of Station KWOW to specify operation on Channel 281C3. In order to allot Channel 281C3 to Clifton, it substitutes Channel 281C1 for Channel 245C1 at Brownwood, Texas, and modifies the license of Station KXYL-FM to specify operation on Channel 245C1. In order to allot Channel 245C1 to Brownwood, it substitutes Channel 246A for Channel 291A at San Saba, Texas, and modifies the license of Station KBAL-FM to specify operation on Channel 291A. It also substitutes Channel 277C3 for Channel 277C at Commerce, Texas, reallots Channel 277C to Allen, Texas, and modifies the license of Station KEMM to specify operation on Channel 277C at Allen. In order to allot Channel 277C to Allen, it substitutes Channel 277C1 for Channel 272C1 at Wichita Falls, Texas, and modifies the license of Station KWFS to specify operation on Channel 272C1; and substitutes Channel 276C2 for Channel 271A at Atoka, Oklahoma, and modifies the license of Station KHKC to specify operation on Channel 298A. In order to allot Channel 272C1 to Wichita Falls, it substitutes Channel 273A for Channel 280A at Wichita Falls, Texas, and modifies the license of Station KQXC to specify operation on Channel 280; substitutes Channel 272A for Channel 276A at Vernon, Texas, and modifies the license of Station KVWC to specify operation on Channel 276A; substitutes Channel 272A for Channel 246A at Duncan, Oklahoma, and modifies the license of Station KKEN to specify operation on Channel 246A. In order to allot Channel 246A to Duncan, it substitutes Channel 246A for Channel 287A at Comanche, Oklahoma, and modifies the license of Station KDDQ to specify operation on Channel 287A. In order to allot Channel 287A to Comanche, it substitutes Channel 284C for Channel 284C1 at Burkburnett, Texas, and modifies the license of Station KYYI to specify operation on Channel 284C1. In order to allot Channel 280A to Wichita Falls, it substitutes Channel 279C1 for Channel 278C at Anadarko, Oklahoma, and modifies the license of Station KPRT to specify operation on Channel 278C. In order to allot Channel 278C to Anadarko, it substitutes Channel 278C1 for Channel 248C2 at Alva, Oklahoma; and substitutes Channel 278C3 for Channel 224A at Dickson, Oklahoma. It also substitutes Channel 237A for Channel 238A at Jacksboro, TX, and modifies the construction permit of Station KJKB to specify operation on Channel 238A. In order to allot Channel 238A to Jacksboro, it substitutes Channel 238C for Channel 246C1 at Haskell, Texas, and modifies the license of Station KVRP to specify operation on Channel 246C1. In order to allot Channel 246C1 to Haskell, it substitutes Channel 246A for Channel 255A at Snyder, Texas, and substitutes Channel 246A for Channel 245A at Eldorado, Oklahoma. See 63 FR 63016, November 10, 1998. The reference coordinates for the Channel 296C1 allotment at Benbrook, Texas, are 32-26-17 and 97-49-06. The reference coordinates for the Channel 296A allotment at Campbell, Texas, are 33-12-41 and 95-51-39. The reference coordinates for the Channel 296C3 allotment at Lone Grove, Oklahoma, are 34-15-01 and 97-07-42. The reference coordinates for the Channel 292A allotment at Durant, Oklahoma, are 34-00-07 and 96-25-19. The reference coordinates for the Channel 297C2 allotment at Lawton, Oklahoma, are 34-37-35 and 98-19-05. The reference coordinates for the Channel 295A allotment at Kerens, Texas, are 32-08-15 and 96-19-10. The reference coordinates for the Channel 234C3 allotment at Graham, Texas, are 33-02-39 and 98-46-27. The reference coordinates for the Channel 272C3 allotment at Coleman, Texas, are 31-51-16 and 99-25-36. The reference coordinates for the Channel 277A allotment at Waco, Texas, are 31-31-51 and 97-09-10. The reference coordinates for the Channel 281C3 allotment at Clifton, Texas, are 31-47-40 and 97-27-17. The reference coordinates for the Channel 245C1 allotment at Brownwood, Texas, are 31-42-16 and 99-00-05. The reference coordinates for the Channel 291A allotment at San Saba, Texas, are 31-11-26 and 98-42-55. The reference coordinates for the Channel 277C allotment at Allen, Texas, are 33-33-36 and 96-57-35. The reference coordinates for the Channel 272C1 allotment at Wichita Falls, Texas, are 34-03-57 and 98-45-05. The reference coordinates for the Channel 271A allotment at Atoka, Oklahoma, are 34-29-22 and 96-08-07. The reference coordinates for the Channel 280A allotment at Wichita Falls, Texas, are 33-53-50 and 98-32-33. The reference coordinates for the Channel 276A allotment at Vernon, Texas, are 34-09-12 and 99-16-09. The reference coordinates for the Channel 246A allotment at Duncan, Oklahoma, are 34-03-43 and 97-58-05. The reference coordinates for the Channel 287A allotment at Comanche, Oklahoma, are 34-22-50 and 98-06-02. The reference coordinates for the Channel 284C1 allotment at Burkburnett, Texas, are 34-05-35 and 98-52-44. The reference coordinates for the Channel 278C allotment at Anadarko, Oklahoma, are 35-23-18 and 98-37-41. The reference coordinates for the Channel 248C2 allotment at Alva, Oklahoma, are 36-58-32 and 98-42-21. The reference coordinates for the Channel 298C3 allotment at Wellington, Texas, are 34-49-13 and 100-14-29. The reference coordinates for the Channel 224A allotment at Dickson, Oklahoma, are 34-07-17 and 96-58-49. The reference coordinates for the Channel 238A allotment at Jacksboro, Texas, are 33-19-53 and 98-10-54. The reference coordinates for the Channel 246C1 allotment at Haskell, Texas, are 33-09-40 and 99-48-57. The reference coordinates for the Channel 249A allotment at Snyder, Texas, are 32-43-04 and 100-55-02. The reference coordinates for the Channel 245A allotment at Eldorado, Oklahoma, are 34-28-24 and 99-38-54. The reference coordinates for the Channel 239C1 allotment at Ardmore, Oklahoma, are 34-09-42 and 97-09-11. The reference coordinates for the Channel 240C1 allotment at Mineral Wells, Texas, are 32-39-15 and 98-11-58. The reference coordinates for the Channel 237C2 allotment at Howe, Texas, are 33-31-09 and 96-47-05. The reference coordinates for the Channel 282C2 allotment at Detroit, Texas, are 33-47-21 and 95-33-07. The reference coordinates for the Channel 272A allotment at Antlers, Oklahoma, are 34-18-05 and 95-33-06.

List of Subjects in 47 CFR Part 73

Radio Broadcasting.

Part 73 of the Code of Federal Regulations is amended as follows:

PART 73—[AMENDED]

1. The authority citation for Part 73 continues to read as follows:

Authority: Sections 303, 48 Stat., as amended, 1082; 47 U.S.C. 154, as amended.

§ 73.202(b) [Amended]

2. Section 73.202(b), the Table of FM Allotments under Texas, is amended, as follows:

a. By removing Channel 293A and adding Channel 294C at Muenster.

b. By removing Granbury, Channel 294C and adding Benbrook, Channel 296C1.

c. By removing McKinney, Channel 295A and adding Campbell, Channel 296A.

d. By removing Terrell, Channel 296A and adding Kerens, Channel 295A.

e. By removing Channel 296C3 and adding Channel 234C3 at Graham.

f. By removing Channel 296C3 and adding Channel 272C3 at Coleman.

g. By removing Channel 296A and adding Channel 277A at Waco.

h. By removing Channel 277C3 and adding Channel 281C3 at Clifton.

i. By removing Channel 281C1 and adding Channel 245C1 at Brownwood.

j. By removing Channel 246A and adding Channel 291A at San Saba.

k. By removing Commerce, Channel 277C3 and adding Allen, Channel 277C.

l. By removing Channel 277C1 and Channel 273A and adding Channel 272C1 and Channel 280A at Wichita Falls.

m. By removing Channel 272A and adding Channel 276A at Vernon.

n. By removing Channel 284C and adding Channel 284C1 at Burkburnett.

o. By removing Channel 278C3 and adding Channel 298C3 at Wellington.

p. By removing Channel 237A and adding Channel 238A at Jacksboro.

q. By removing Channel 238C and adding Channel 246C1 at Haskell.

r. By removing Channel 246A and adding Channel 255A at Snyder.

s. By removing Channel 294C2 and adding Channel 282C2 at Detroit.

3. Section 73.202(b), The Table of FM Allotments under Oklahoma, is amended, as follows:

a. By removing Channel 294A and adding Channel 296C3 at Lone Grove.

b. By removing Channel 296C3 and adding Channel 292A at Durant.

c. By removing Channel 276C2 and adding Channel 271A at Atoka.

d. By removing Channel 272A and adding Channel 246A at Duncan.

e. By removing Channel 246A and adding Channel 287A at Comanche.

f. By removing Channel 279C1 and adding Channel 278C at Anadarko.

g. By removing Channel 278C1 and adding Channel 248C2 at Alva.

h. By removing Channel 278C3 and adding Channel 224A at Dickson.

i. By removing Channel 246A and adding Channel 245A at Eldorado.

j. By removing Channel 284A and adding Channel 272A at Antlers.

Federal Communications Commission.
John A. Karousos,
Chief, Allocations Branch, Policy and Rules Division, Mass Media Bureau.

[FR Doc. 00-8851 Filed 4-10-00; 8:45 am]

BILLING CODE 6712-01-P